DEPARTMENT OF AGRICULTURE

Natural Resources Conservation Service

[Docket No. NRCS-2022-0009]

Notice of Availability of the Draft Programmatic Environmental Assessment for the Partnerships for Climate-Smart Commodities Funding Opportunity

AGENCY: Natural Resources Conservation Service (NRCS), Department of Agriculture (USDA).

ACTION: Notice of availability and finding of no significant impact.

SUMMARY: NRCS is announcing the draft Programmatic Environmental Assessment (PEA) and Finding of No Significant Impact (FONSI) for the Partnerships for Climate-Smart Commodities funding opportunity is available for public review and comment.

DATES: We will consider comments that we receive by August 18, 2022.

ADDRESSES: We invite you to submit comments on the PEA and FONSI. You may submit comments:

• By going through the Federal eRulemaking Portal: Go to http://www.regulations.gov and search for Docket ID NRCS-22-0009. Follow the instructions for submitting comments.

All comments will be posted without change and will be publicly available on www.regulations.gov.

A copy of the draft PEA and Finding of No Significant Impact (FONSI) may be obtained from:

• www.regulations.gov search for Docket ID NRCS-22-0009, supporting documents;

• https://www.usda.gov/climate-solutions/climate-smart-commodities; or

• Email scott.blackburn@usda.gov with “Request for PEA” in the subject line.

FOR FURTHER INFORMATION CONTACT: Scott Blackburn; telephone: (202) 360-8195; or email: scott.blackburn@usda.gov. Persons with disabilities who require alternative means for communication should contact the USDA Target Center at (202) 720-2600 (voice).

SUPPLEMENTARY INFORMATION: Partnerships for Climate-Smart Commodities is a voluntary USDA funding opportunity with funding made available through NRCS for partnerships to support the production and marketing of climate-smart commodities. Partnerships for Climate-Smart Commodities is designed to use the funds and authorities of the Commodity Credit Corporation (CCC) (15 U.S.C. 714-714f) to support the development of markets and production of agricultural commodities using agricultural (farming, ranching, or forestry) production practices that reduce greenhouse gas emissions or sequester carbon. NRCS is administering the Partnerships for Climate-Smart Commodities on behalf of CCC.

The environmental impacts of the Partnerships for Climate-Smart Commodities funding opportunity have been considered in a manner consistent with the provisions of the National Environmental Policy Act (NEPA), as amended (42 U.S.C. 4321-4347), the regulations of the Council on Environmental Quality (40 CFR parts 1500-1508), and the NRCS regulations for compliance with NEPA (7 CFR part 650). A draft PEA has been prepared and based on this analysis, NRCS has preliminarily determined there will not be a significant impact to the human environment. As a result, an Environmental Impact Statement (EIS) has not been initiated (40 CFR 1501.6).

In efforts to diligently involve the public, NRCS is making the draft EA and FONSI available for review and comment for 14 calendar days from the date of publication of this document in the Federal Register. NRCS will consider this input and determine whether there is any new information provided relevant to environmental concerns and bearing on the proposed action or its impacts that warrant supplementing or revising the draft PEA and FONSI. After the comment period, NRCS will issue either a Final EA and FONSI, or it will issue a Notice of Intent to prepare an Environmental Impact Statement.

Terry Cosby,
Chief, Natural Resources Conservation Service.

[FR Doc. 2022-16704 Filed 8-3-22; 8:45 am]

BILLING CODE 3410-16-P